NATIONAL SCIENCE FOUNDATION

Advisory Committee for Social, Behavioral and Economic Sciences; Notice of Meeting

In accordance with Federal Advisory Committee Act (Pub. L. 92-463, as amended), the National Science Foundation announces the following meeting:

Name: Advisory Committee for Social, Behavioral and Economic Sciences (# 1171)

Date/Time: April 3, 2014; 9:00 a.m. to 5:05 p.m., April 4, 2014; 9:00 a.m. to 12:15 p.m.

Place: National Science Foundation, 4201 Wilson Blvd., Stafford I, Room 110, Arlington, VA 22230

Type of Meeting: OPEN

Contact Person: Ms. Lisa Jones, Office of the Assistant Director, Directorate for Social, Behavioral and Economic Sciences, National Science Foundation, 4201 Wilson Boulevard, Room 905, Arlington, Virginia 22230, 703-292-8700

Summary of Minutes: May be obtained from contact person listed above.

Purpose of Meeting: To provide advice and recommendations to the National Science Foundation on major goals and policies pertaining to Social, Behavioral and Economic Sciences Directorate Programs and activities.

Agenda: Agenda Topics

Thursday, April 3, 2014 9:00 a.m.-5:05 p.m.

Directorate Update: Dr. Joanne Tornow

Transparency, Accountability and Portfolio Framework

Discussion with NSF Leadership

Report from SBE Division of Social and Economic Sciences (SBE/SES) Committee of Visitor (COV)

Public Access

Report from Statistical Sciences at NSF (StatSNSF) Subcommittee

Proposed Revisions to the Common Rule for the Protection of Human Subjects in Behavioral and Social Sciences (Report from the National Research Council)

Report from the SBE AC Subcommittee on Replication

Friday, April 4, 2014 9:00 a.m.—12:15 p.m.

NSF activities related to Cognitive Science and Neuroscience and the BRAIN Initiative

Report from the SBE AC Subcommittee on the Future of SBE Survey Research

Report from the SBE AC Subcommittee on the Science and Practice of Broadening Participation

Agenda for future meeting, 2014 Meeting dates, Assignments, Concluding Remarks

Dated: March 7, 2014.
Suzanne Plimpton,
Acting Committee Management Officer.

[FR Doc. 2014-05383 Filed 3-11-14; 8:45 am]

BILLING CODE 7555-01-P